DEPARTMENT OF TRANSPORTATION

Federal Railroad Administration

Petition for Waiver of Compliance: Date and Location of Public Hearings

By public notice published on December 8, 2006 (71 FR 71237), The Federal Railroad Administration (FRA) announced the receipt of a petition from BNSF Railway and Norfolk Southern Railway, two Class I Railroads, for a waiver of compliance from certain provisions of Title 49 Code of Federal Regulations (CFR) Part 232 Brake System Safety Standards for Freight and Other Non-Passenger Trains and Equipment, to begin implementation of Electronically Controlled Pneumatic (ECP) brake technology. In the notice, FRA stated that the facts appear to warrant a public hearing. (The petition is identified as Docket FRA-2006-26435.)

A public hearing is hereby set for 1 p.m.-6 p.m. on Tuesday, January 16, 2006, at the Washington Plaza Hotel, 10 Thomas Circle NW., Washington, DC 20005. Interested parties are invited to present oral statements at the hearing. The hearing will be informal and will be conducted by a representative designated by FRA in accordance with FRA's Rules of Practice (49 CFR 211.25). The hearing will be a non-adversarial proceeding; therefore, there will be no cross examination of persons presenting statements. The FRA representative will make an opening statement outlining the scope of the hearing. After all initial statements have been completed, those persons wishing to make a brief rebuttal will be given the opportunity to do so in the same order in which initial statements were made. Additional procedures, as necessary for the conduct of the hearing, will be announced at the hearing.

Issued in Washington, DC on December 14, 2006.
Grady C. Cothen, Jr.,
Deputy Associate Administrator for Safety Standards and Program Development.

[FR Doc. E6-21658 Filed 12-19-06; 8:45 am]

BILLING CODE 4910-06-P